DEPARTMENT OF COMMERCE

National Telecommunications and Information Administration

Broadband Grant Programs Webinar Series

AGENCY: National Telecommunications and Information Administration, U.S. Department of Commerce.

ACTION: Notice of open meetings—NTIA broadband grant programs webinars.

SUMMARY: The National Telecommunications and Information Administration (NTIA) will host a webinar series in April through July 2021 in connection with the three new broadband grant programs authorized and funded by the Consolidated Appropriations Act, 2021: The Broadband Infrastructure Program, the Tribal Broadband Connectivity Program, and the Connecting Minority Communities Program. The webinars are designed to help prospective applicants understand the grant programs and to assist applicants to prepare high quality grant applications.

DATES: NTIA will hold the webinars based on the following schedule:

1. Broadband Infrastructure Program: The second Wednesday and Thursday of each month, 2:30-4:00 p.m. Eastern Time (ET), starting April 14, 2021.

2. Tribal Broadband Connectivity Program: The third Wednesday and Thursday of each month, 2:30-4:00 p.m. ET, starting April 21, 2021.

3. Connecting Minority Communities: The fourth Wednesday and Thursday of each month, 2:30-4:00 p.m. ET, starting April 28, 2021.

ADDRESSES: These are virtual meetings. NTIA will post the registration information on its BroadbandUSA website, https://broadbandusa.ntia.doc.gov, under Events.

FOR FURTHER INFORMATION CONTACT: Christopher Holt, National Telecommunications and Information Administration, U.S. Department of Commerce, Room 4872, 1401 Constitution Avenue NW, Washington, DC 20230; telephone: (202) 482-4884; email: BroadbandUSAwebinars@ntia.gov. Please direct media inquiries to NTIA's Office of Public Affairs, (202) 482-7002; email press@ntia.gov.

SUPPLEMENTARY INFORMATION: Division N, Title IX—Broadband internet Access Service, of the Consolidated Appropriations Act, 2021 (Pub. L. 116-260) authorized and funded three new broadband grant programs to be administered by NTIA: The Broadband Infrastructure Program, the Tribal Broadband Connectivity Program, and the Connecting Minority Community Program. The Broadband Infrastructure Program is a $300 million broadband deployment program directed to partnerships between a state, or one or more political subdivisions of a state, and providers of fixed broadband service to support broadband infrastructure deployment to areas lacking broadband, especially rural areas. The Tribal Broadband Connectivity Program is a $1 billion program directed to tribal governments to be used for broadband deployment on tribal lands, as well as for telehealth, distance learning, broadband affordability, and digital inclusion. The Connecting Minority Communities Program is a $285 million pilot grant program targeting Historically Black Colleges and Universities, Tribal Colleges and Universities, and Minority Serving Institutions, and their anchor communities for the purchase of broadband internet access service, or any eligible equipment, or to hire and train information technology personnel. During April through July 2021, NTIA will host a webinar series in connection with each of these broadband grant programs to help prospective applicants understand the grant programs and to assist them as they prepare high quality grant applications. Details on specific webinars, their contents, and webinar registration information will be posted on the BroadbandUSA website, https://broadbandusa.ntia.doc.gov, under Events.

These webinars are subject to change. Webinar time changes will be posted on the BroadbandUSA website, https://broadbandusa.ntia.doc.gov, under Events. Any webinar cancellation will also be posted on the same website. Any date change in a scheduled webinar will be provided in a notice in the Federal Register.

The presentation and recording of each webinar will be posted on the BroadbandUSA website at https://broadbandusa.ntia.doc.gov/ and NTIA's YouTube channel at: https://www.youtube.com/ntiagov within 7 days following the live webinar.

The public is invited to participate in these webinars. The webinars are open to the public and press. Pre-registration is required as space is limited to the first 1000 participants. NTIA asks each registrant to provide their first and last name, city, state, zip code, job title, organization and email address for registration purposes.

Individuals requiring accommodations, such as sign language interpretation or other ancillary aids, are asked to notify the NTIA contact listed above at least ten (10) business days before the meeting. General questions and comments are welcome via email to BroadbandUSAwebinars@ntia.gov.

Dated: March 16, 2021.
Kathy Smith,
Chief Counsel, National Telecommunications and Information Administration.

[FR Doc. 2021-05747 Filed 3-18-21; 8:45 am]

BILLING CODE 3510-60-P